DEPARTMENT OF ENERGY

Energy Efficiency and Renewable Energy Office

Notice of Competitive Financial Assistance for the Office of Energy Efficiency and Renewable Energy

AGENCY: EERE, Department of Energy.

ACTION: Notice of competitive financial assistance solicitation.

SUMMARY: The Department of Energy (DOE) announces a competitive solicitation for applications for grants and cooperative agreements for information dissemination, public outreach, training, and related technical analysis and technical assistance activities involving renewable energy and energy efficiency. It is estimated that funding of approximately FY2001 $2 to $3 million will be available under renewable energy programs, and FY2001 $3 to $4 million will be available under energy efficiency programs for awards under this solicitation in fiscal year 2001. Areas of interest involving renewable energy include wind, hydrogen, and geothermal technologies. Energy efficiency areas of interest include energy efficiency in the transportation, buildings, and industrial sectors. The awards may be for a period of six months to three years. Proposals will be subject to the objective merit review procedures for the Office of Energy Efficiency and Renewable Energy (EERE). Eligible applicants for this solicitation are profit organizations, non-profit institutions and organizations, state and local governments, universities, individuals, Native American organizations, and Alaskan Native Corporations.

ADDRESSES: The formal solicitation document, which will include greater detail about specific program areas of interest, application instructions, and evaluation criteria, is expected to be issued mid-November 2000. The solicitation will include specific funding totals for each program area of interest. Application due dates for the various program areas will be staggered throughout January 2001, and applications will be processed by three DOE procurement offices to expedite awards. Prospective applicants under the following Program Areas of Interest will be encouraged to submit a pre-application not longer than two pages, no later than 11:30 p.m. Eastern Standard Time on Friday, December 1, 2000: Program Area 1D, Office of Power Technologies—Electric Utility Restructuring: Information Dissemination, Technical Analysis and Outreach Activities; Program Area 4, Office of Building Technology, State and Community Programs—Information Dissemination, Outreach and Related Technical Analysis; Program Area 6A, Office of the Assistant Secretary for Energy Efficiency and Renewable Energy—Technology and Systems Integration: Information Dissemination, Outreach and Related Analysis; and Program Area 6B, Office of the Assistance Secretary for Energy Efficiency and Renewable Energy—International Energy Efficiency and Renewable Energy: Technical Assistance to Support Clean Energy Development. Those submitting pre-applications will be notified within approximately 14 days whether all or part of their project is encouraged or discouraged for further consideration.

The formal solicitation document will be disseminated electronically as solicitation number DEPS01-01EE10781 through the Department's Current Business Opportunities of the Headquarters Procurement Services Homepage located at www.pr.doe.gov/solicit.html and the Industry Interactive Procurement System (IIPS) Homepage located at http://doe-iips.pr.doe.gov. The IIPS system have become the primary way for the Office of Headquarters Procurement Services to conduct competitive acquisitions and financial assistance transactions. IIPS provides the medium for disseminating solicitations, receiving financial assistance applications and proposals, evaluating, and awarding various instruments in a paperless environment.

To get more information about IIPS and to register your organization, go to http://doe-iips.pr.doe.gov. Follow the link on the IIPS home page to the Secure Services page. Registration is a prerequisite to the submission of an application, and applicants are encouraged to register as soon as possible. A help document, which describes how IIPS works, can be found at the bottom of the Secure Services page.

FOR FURTHER INFORMATION CONTACT: Contact the U.S. Department of Energy, Office of Headquarters Procurement Services, Attention MA-542 (Barry Page, EERE-2001), 1000 Independence Ave., SW., Washington, DC 20585, telephone number 800-683-0751, or e-mail at: eere.grants@pr.doe.gov. Questions or comments should be categorized as administrative or financial assistance related. Administrative questions or comments relate only to the operation of IIPS. All questions or comments should be directed to the attention of Mr. Barry Page. The preferred method of submitting questions and/or comments is through e-mail. Only questions and comments submitted to Mr. Page will be considered. Questions and/or comments requiring coordination with EERE program officials will be directed by DOE personnel to the cognizant offices internally through IIPS.

SUPPLEMENTARY INFORMATION: The Office of EERE supports DOE's strategic objectives of increasing the efficiency and productivity of energy use, while limiting environmental impacts; reducing the vulnerability of the U.S. economy to disruptions in energy supplies; ensuring that a competitive electric utility industry is in place that can deliver adequate and affordable supplies with reduced environmental impacts; supporting U.S. energy, environmental, and economic interests in global markets; and delivering leading-edge technologies. A key component of this program is the support of information dissemination, public outreach, training and related technical analysis and technical assistance activities to: (1) Stimulate increased energy efficiency in transportation, buildings, and industry and increased use of renewable energy; and (2) accelerate the adoption of new technologies to increase energy efficiency and the use of renewable energy. The purpose of this solicitation is to further these objectives through financial assistance in the following areas:

Office of Power Technologies (OPT)—The primary mission of this Office is to lead the national effort to develop solar and other renewable energy technologies and to accelerate their acceptance and use on a national and international level. Also, OPT develops advanced high temperature superconducting power equipment and energy storage systems, addresses advanced technology needs for transmission and distribution systems, and provides information and technical assistance on electric utility restructuring issues. Financial assistance applications will be requested for information dissemination, public outreach, and related technical analysis activities involving several specific renewable technologies such as wind, hydrogen and geothermal technologies. Also, proposals will be requested to perform the following activities: information dissemination, technical assistance, and outreach relating to electric utility restructuring; and co-sponsorship of conferences involving the power technologies sector.

Office of Industrial Technologies (OIT)—The mission of this Office is to improve the energy efficiency and pollution prevention performance of U.S. industry. The Office has a particular focus on nine industries, including the aluminum, steel, metal casting, glass, forest and paper products, chemicals, petroleum refining, agriculture, and mining industries. At the national level, the Office has successfully facilitated the development of industry visions and technology roadmaps with these nine industries. Financial assistance applications will be requested to support information dissemination and outreach to facilitate multi-States implementation of the Industries of the Future program.

Office of Transportation Technologies (OTT)—The mission of this Office is to support the development and use of advanced transportation vehicles and alternative fuel technologies which will reduce energy demand, particularly for petroleum; reduce criteria pollutant emissions and greenhouse gas emissions; and enable the U.S. transportation industry to sustain a strong competitive position in domestic and world markets. Financial assistance applications will be requested to conduct workshops and conferences related to the Clean Cities Program and to provide technical assistance and outreach to Western Hemispheric countries to promote the adoption of Clean Cities Programs or similar volunteer programs to expand the use of alternative fuels and alternative fuel technologies.

Office of Building Technology, State and Community Programs (BTS)—The mission of this Office is to develop, promote, and integrate energy technologies and practices to make buildings more efficient and affordable and communities more livable. Financial assistance applications will be requested to support information dissemination, public outreach, and related technical analysis activities for the following BTS priorities: Addressing the efficient and renewable energy technology information deficit among commercial building constructors, owners, and managers; promoting energy efficiency and renewable energy utilization as a public value for residential builders and home buyers; increasing the availability of energy efficient school design, retrofit and technical resource information for school board members and school administrators; preparing the building trades, building operators, and building managers for the new generation of efficient and renewable energy technologies; promoting the widespread installation of dedicated compact fluorescent lamp fixtures; and strengthening the Rebuild America Program through outreach activities with stakeholder organizations representing facility managers, business officials, and policy makers at colleges and universities, State and local governments, elementary and secondary schools, and public and other low-income housing.

Federal Energy Management Program (FEMP)—The mission of this Program is to assist agencies in achieving the federal energy management goals and to disseminate information to states, local governments and the public on innovative approaches to the use of energy. Financial assistance will be requested to support several specific program areas such as a national lighting certification program for lighting professionals.

The Office of the Assistant Secretary for EERE has the overall management responsibility for the entire Office of EERE, including the OPT, OTT, OIT, BTS, and the Federal Energy Management Program (FEMP). Financial assistance applications will be requested to support information dissemination, outreach, and related analysis activities under Program Area 6A, Technology and Systems Integration: Information Dissemination, Outreach, and Related Analysis, for projects which have the objectives to:

(1) Encourage the design, development, and adoption of energy efficiency and/or renewable energy systems that incorporate two or more technologies, or incorporate technology(ies) supported by at least two DOE program offices (including at least one from EERE), and that have identified potential for multiple applications across sectors;

(2) Stimulate greater technology integration and systems integration activities, including multi-application product development (a) within the energy efficiency and renewable energy sector (e.g., multi-feedstock/multi-product biorefineries; distributed power generation technologies, applications, and grid interface issues; combined heat-and-power systems; industrial, commercial, and district-energy concepts; on-site clean fuel production and automotive fueling systems; and active/passive commercial building energy management systems); and (b) between EERE and the fossil energy sector (e.g., coal/biomass co-firing; higher efficiency natural gas technologies; multi-fuel micro-turbines; carbon extraction and sequestration technologies);

(3) Encourage the design, development, and adoption of EERE technology-based strategies for accomplishing environmental and human health objectives under the Clean Air Act and other environmental laws and policies, particularly at the State and local government level;

(4) Encourage the use of Geographical Information Systems (GIS) and other computer-assisted analytical, planning, and decision-support tools to assist communities to evaluate the energy, environmental, and economic impacts and costs of various options for energy generation, distribution, and use; and

(5) Develop financial risk and liability models for investments in EERE technologies and systems in order to assist investors and other stakeholders to evaluate financial risk exposure resulting from energy investment choices.

In addition, financial assistance applications will be requested to support region-wide technical assistance activities in developing countries and countries in transition to support the development of human and institutional capabilities related to EERE by governmental entities, not-for-profit organizations, and industry organizations. The region-wide activities must encompass one of the following regions: Latin America, Africa, South Asia, or Eastern Europe, and encompass several countries within that region.

Million Solar Roofs Initiative (MSRI)—The purpose of the MSRI is to spur the installation of solar energy systems on one million U.S. buildings by 2010. The initiative seeks to catalyze market demand through the elimination of barriers to the use of solar energy systems on buildings and the establishment of State and Community Partnerships. Applications will be requested under this solicitation to develop information, training, and workshops to assist in the elimination of specific barriers. A separate solicitation providing direct support to Million Solar Roofs State and Community Partnerships will be issued by the Golden Field Office not later than January 2001.

Additional information about the programs of the Office of EERE can be obtained at the Office's Internet site at http://www.eren.doe.gov/ee.html.

Issued in Washington, DC on November 2, 2000.
Arnold A. Gjerstad,
Director, Program Services Division, Office of Headquarters Procurement Services.

[FR Doc. 00-28628 Filed 11-7-00; 8:45 am]

BILLING CODE 6450-01-P